DEPARTMENT OF ENERGY

Federal Energy Regulatory Commission

Combined Notice of Filings #1

September 10, 2010.

Take notice that the Commission received the following electric rate filings:

Docket Numbers: ER10-2546-000

Applicants: Greenbelt Energy LLC.

Description: Greenbelt Energy LLC submits Petition for Acceptance of initial Tariff, Waivers and Blanket Authorization.

Filed Date: 09/03/2010

Accession Number: 20100907-0206

Comment Date: 5 p.m. Eastern Time on Friday, September 24, 2010

Docket Numbers: ER10-2561-000

Applicants: New York Independent System Operator.

Description: New York Independent System Operator submits tariff filing per 35.13(a)(2)(iii): Service Agreement Between Niagara Mohawk and Tug Hill Energy to be effective 10/12/2010.

Filed Date: 09/08/2010

Accession Number: 20100908-5117

Comment Date: 5 p.m. Eastern Time on Wednesday, September 29, 2010

Docket Numbers: ER10-2562-000

Applicants: PacifiCorp.

Description: PacifiCorp submits for filing the Baseline for its Open Access Transmission Tariff, FERC Electric Tariff, Volume No. 11, to be effective 9/8/2010.

Filed Date: 09/08/2010

Accession Number: 20100908-5121

Comment Date: 5 p.m. Eastern Time on Wednesday, September 29, 2010

Docket Numbers: ER10-2563-000

Applicants: Wisconsin Electric Power Company.

Description: Wisconsin Electric Power Company submits tariff filing per 35.12: Market Rate Power Sales Tariff Baseline Filing to be effective 9/8/2010.

Filed Date: 09/08/2010

Accession Number: 20100908-5147

Comment Date: 5 p.m. Eastern Time on Wednesday, September 29, 2010

Docket Numbers: ER10-2564-000

Applicants: Tucson Electric Power Company.

Description: Tucson Electric Power Company submits tariff filing per 35.12: Baseline Filing for Tucson Electric Power Company MBR Tariff to be effective 9/9/2010.

Filed Date: 09/08/2010

Accession Number: 20100908-5149

Comment Date: 5 p.m. Eastern Time on Wednesday, September 29, 2010

Docket Numbers: ER10-2575-000

Applicants: Watson Cogeneration Company.

Description: Watson Cogeneration Company submits tariff filing per 35.12: Baseline MBR Tariff Filing of Watson Cogeneration Company to be effective 9/10/2010.

Filed Date: 09/09/2010

Accession Number: 20100909-5167

Comment Date: 5 p.m. Eastern Time on Thursday, September 30, 2010

Docket Numbers: ER10-2576-000

Applicants: Whiting Clean Energy, Inc.

Description: Whiting Clean Energy, Inc. submits tariff filing per 35.12: Baseline MBR Tariff Filing of Whiting Clean Energy, Inc. to be effective 9/10/2010.

Filed Date: 09/09/2010

Accession Number: 20100909-5168

Comment Date: 5 p.m. Eastern Time on Thursday, September 30, 2010

Docket Numbers: ER10-2578-000

Applicants: Fox Energy Company, LLC.

Description: Fox Energy Company, LLC submits tariff filing per 35.12: Baseline Filing for Fox Energy Company, LLC Market Based Rate Tariff to be effective 9/10/2010.

Filed Date: 09/10/2010

Accession Number: 20100910-5023

Comment Date: 5 p.m. Eastern Time on Friday, October 1, 2010

Docket Numbers: ER10-2579-000

Applicants: NorthPoint Energy Solutions Inc.

Description: NorthPoint Energy Solutions Inc. submits tariff filing per 35.12: NorthPoint—Baseline eTariff Filing to be effective 9/10/2010.

Filed Date: 09/10/2010

Accession Number: 20100910-5037

Comment Date: 5 p.m. Eastern Time on Friday, October 1, 2010

Docket Numbers: ER10-2580-000

Applicants: Green Mountain Power Corporation.

Description: Green Mountain Power Corporation submits tariff filing per 35.12: First Baseline Filing to be effective 9/10/2010.

Filed Date: 09/10/2010

Accession Number: 20100910-5089

Comment Date: 5 p.m. Eastern Time on Friday, October 1, 2010

Docket Numbers: ER10-2581-000

Applicants: Mid-Continent Energy Marketers Association.

Description: Mid-Continent Energy Marketers Association submits its Baseline Tariff Filing of the MEMA Capacity and Energy Tariff, to be effective 9/10/2010.

Filed Date: 09/10/2010

Accession Number: 20100910-5144

Comment Date: 5 p.m. Eastern Time on Friday, October 1, 2010

Docket Numbers: ER10-2582-000

Applicants: Ohio Valley Electric Corporation.

Description: Ohio Valley Electric Corporation submits their Baseline eTariff Filing, to be effective 9/3/2010.

Filed Date: 09/10/2010

Accession Number: 20100910-5170

Comment Date: 5 p.m. Eastern Time on Friday, October 1, 2010

Docket Numbers: ER10-2583-000

Applicants: Nevada Power Company

Description: Nevada Power Company submits the New filing of RPPA Rate Schedule No. 115, to be effective 10/1/2010.

Filed Date: 09/10/2010

Accession Number: 20100910-5177

Comment Date: 5 p.m. Eastern Time on Friday, October 1, 2010

Docket Numbers: ER10-2584-000

Applicants: Nevada Power Company

Description: Nevada Power Company submits tariff filing per 35.12: New RPPA Rate Schedule No. 116 to be effective 10/1/2010.

Filed Date: 09/10/2010

Accession Number: 20100910-5194

Comment Date: 5 p.m. Eastern Time on Friday, October 1, 2010

Take notice that the Commission received the following public utility holding company filings:

Docket Numbers: PH10-20-000

Applicants: South Jersey Industries, Inc.

Description: Form 65-A of South Jersey Industries, Inc.

Filed Date: 09/09/2010

Accession Number: 20100909-5176

Comment Date: 5 p.m. Eastern Time on Thursday, September 30, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-23591 Filed 9-21-10; 8:45 am]

BILLING CODE 6717-01-P